DEPARTMENT OF COMMERCE

International Trade Administration

[C-489-502]

Circular Welded Carbon Steel Pipes and Tubes From Turkey: Final Results of Countervailing Duty Administrative Review; Calendar Year 2013 and Rescission of Countervailing Duty Administrative Review, in Part

AGENCY: Enforcement and Compliance, International Trade Administration, Department of Commerce.

SUMMARY: The Department of Commerce (the Department) has completed the administrative review of the countervailing duty (CVD) order on circular welded carbon steel pipes and tubes (steel pipes and tubes) from Turkey for the January 1, 2013, through December 31, 2013, period of review (POR) in accordance with section 751(a) of the Tariff Act of 1930, as amended (the Act). This review covers four exporters/producers, one of which is being individually examined as a mandatory respondent. In these final results, the Department has made changes to the net subsidy rate determined for the sole mandatory respondent, Borusan Mannesmann Boru Sanayi ve Ticaret A.S. (BMB), Borusan Istikbal Ticaret T.A.S. (Istikbal), and Borusan Lojistik Dagitim Pepolama Tasimacilik ve Tic A.S. (Borusan Lojistik) (collectively, the Borusan Companies). Further, in these final results, we have continued to apply the net subsidy rate calculated for the Borusan Companies to the following three respondents not subject to individual review: Tosyali dis Ticaret A.S. (Tosyali) and Toscelik Profil ve Sac Endustrisi A.S. (Toscelik Profil), (collectively, the Toscelik Companies), Umran Celik Born Sanayii A.S. (also known as Umran Steel Pipe Inc.) (Umran), and Guven Steel Pipe (also known as Guven Celik Born San. Ve Tic. Ltd.) (Guven). Additionally, in these final results the Department is rescinding the review of two companies Erbosan Erciyas Boru Sanayi ve Ticaret A.S. (Erbosan AS) and Erbosan Erciyas Pipe Industry and Trade Co. Kayseri Free Zone Branch (Erbosan FZB), (collectively, the Erbosan Companies) and the Yucel Group and all affiliates including Yucel Boru ye Profil Endustrisi A.S, Yucelboru Ihracat Ithalat ye Pazarlama A.S, and Cayirova Born Sanayi ye Ticaret A.S.) (collectively, the Yucel Companies) that timely certified that they had no shipments of subject merchandise during the POR.

DATES: Effective Date: October 13, 2015.

FOR FURTHER INFORMATION CONTACT: John Conniff at 202-482-1009, or Jolanta Lawska at 202-482-8362, AD/CVD Operations, Office III, Enforcement and Compliance, International Trade Administration, U.S. Department of Commerce, 14th Street and Constitution Avenue NW., Washington, DC 20230.

Background

On March 7, 1986, the Department published in the Federal Register the CVD order on steel pipes and tubes from Turkey.¹ On April 8, 2015, the Department published in the Federal Register the Preliminary Results for this review.² In the Preliminary Results, we invited interested parties to submit case and rebuttal briefs commenting on the preliminary results and to request a hearing.³ On May 8, 2015, we received case briefs from the Borusan Companies, the Government of Turkey (GOT), and the Toscelik Companies. We received no rebuttal briefs.

¹ See Countervailing Duty Order: Certain Welded Carbon Steel Pipe and Tube Products From Turkey, 51 FR 7984 (March 7, 1986).

² See Circular Welded Carbon Steel Pipes and Tubes from Turkey: Preliminary Results of Countervailing Duty Administrative Review and Preliminary Intent To Rescind in Part; Calendar Year 2013, 80 FR 18809 (April 8, 2015) (Preliminary Results).

³ Id., 80 FR at 18810.

On April 8, 2015 the Borusan Companies requested a hearing. On June 1, 2015, the Borusan Companies withdrew their request for a hearing.

On June 16, 2015, the Department extended the deadline for the final results of this administrative review until October 5, 2015.⁴

⁴ See Memorandum from Eric B. Greynolds, Program Manager, Office III, Antidumping and Countervailing Duty Operations through Erin Begnal, Director, Office III, Antidumping and Countervailing Duty Operations, to Christian Marsh, Deputy Assistant Secretary for Antidumping and Countervailing Duty Operations, dated June 16, 2015 regarding Countervailing Duty Administrative Review: Circular Welded Carbon Steel Pipes and Tubes from Turkey; 2013, “Extension of Time Limit for Final Results” (June 16, 2015).

Scope of Order

The products covered by this order are certain welded carbon steel pipe and tube with an outside diameter of 0.375 inch or more, but not over 16 inches, of any wall thickness (pipe and tube) from Turkey. These products are currently classifiable under the Harmonized Tariff Schedule of the United States (HTSUS) subheadings as 7306.30.10, 7306.30.50, and 7306.90.10. Although the HTSUS subheadings are provided for convenience and customs purposes, the written description of the merchandise is dispositive.

Methodology

The Department conducted this review in accordance with section 751(a)(1)(A) of the Act. For each of the subsidy programs found countervailable during the POR, we determine that there is a subsidy, i.e., a government-provided financial contribution that confers a benefit to the recipient, and that the subsidy is specific. See sections 771(5)(B) and (D) of the Act regarding financial contribution; section 771(5)(E) of the Act regarding benefit; and section 771(5A) of the Act regarding specificity. For a complete description of the methodology, see the Issues and Decision Memorandum.⁵

⁵ See Memorandum to Paul Piquado, Assistant Secretary for Enforcement and Compliance, “Decision Memorandum for Final Results of Countervailing Duty (CVD) Administrative Review: Circular Welded Carbon Steel Pipes and Tubes from Turkey,” dated concurrently with these final results (Issues and Decision Memorandum).

Analysis of Comments Received

All issues raised in the case briefs of the Borusan Companies, the GOT, and the Toscelik Companies are addressed in the Issues and Decision Memorandum. A list of the issues raised and to which we responded in the Issues and Decision Memorandum, is attached to this notice as an Appendix. The Issues and Decision Memorandum is a public document and is on file electronically via Enforcement and Compliance's Antidumping and Countervailing Duty Centralized Electronic Service System (ACCESS). ACCESS is available to registered users at http://access.trade.gov, and is available to all parties in the Central Records Unit, room B8024 of the main Commerce building. In addition, a complete version of the Issues and Decision Memorandum can be accessed directly at http://enforcement.trade.gov/frn/index.html. The signed Issues and Decision Memorandum and the electronic versions of the Issues and Decision Memorandum are identical in content.

Rescission of the 2013 Administrative Review, in Part

The Department did not receive any information from interested parties or U.S. Customs and Border Protection (CBP) that was contrary to the claims of the Erbosan Companies and the Yucel Companies of no sales, shipments, or entries of subject merchandise to the United States during the POR after we indicated our intent to rescind the administrative review. Accordingly, based on record evidence, we determine that the Erbosan Companies and the Yucel Companies did not ship subject merchandise to the United States during the POR. Therefore, in accordance with 19 CFR 351.213(d)(3), and consistent with our practice,⁶ we are rescinding the review for the Erbosan Companies and the Yucel Companies.

⁶ See, e.g., Aluminum Extrusions from the People's Republic of China: Notice of Partial Rescission of Countervailing Duty Administrative Review, 79 FR 2635 (January 15, 2014).

Final Results of Review

In accordance with 19 CFR 351.221(b)(4)(i), we calculated an individual subsidy rate for the mandatory respondent, the Borusan Companies. Because the Borusan Companies are the sole mandatory respondent, we assigned to those companies not selected for individual review, the rate calculated for the Borusan Companies. As a result of this review, we determine the listed net subsidy rates for January 1, 2013, through December 31, 2013:

Company | Net subsidy rate (percent)
Borusan Group, Borusan Holding, A.S. (Borusan Holding), Borusan Mannesmann Boru Sanayi ve Ticaret A.S. (Borusan), Borusan Istikbal Ticaret T.A.S. (Istikbal), and Borusan Lojistik Dagitim Pepolama Tasimacilik ve Tic A.S. (Borusan Lojistik) (collectively, the Borusan Companies) | 0.91 ad valorem.
Umran Celik Born Sanayii A.S. (also known as Umran Steel Pipe Inc.) (Umran) | 0.91 ad valorem.
Guven Steel Pipe (also known as Guven Celik Born San. Ve Tic. Ltd.) (Guven) | 0.91 ad valorem.
Toscelik Profil ve Sac Endustrisi A.S. (Toscelik Profil), Toscelik Metal Ticaret AS., and Tosyali Dis Ticaret AS. (Tosyali) (collectively, the Toscelik Companies) | 0.91 ad valorem.

Assessment Rates/Cash Deposits

In accordance with 19 CFR 351.212(b)(2), the Department intends to issue assessment instructions to CBP 15 days after the date of publication of these final results of review to liquidate shipments of subject merchandise produced and/or exported by respondents listed above entered, or withdrawn form warehouse, for consumption on or after January 1, 2013, through December 31, 2013.

For the Erbosan Companies and Yucel Companies, the rescinded companies, countervailing duties shall be assessed at rates equal to the rates for the cash deposit of estimated countervailing duties required at the time of entry, or withdrawal from warehouse, for consumption, in accordance with 19 CFR 351.212(c)(1)(i). The Department intends to issue appropriate assessment instructions to CBP 15 days after the date of publication of this notice.

Pursuant to section 751(a)(2)(C) of the Act, the Department also intends to instruct CBP to collect cash deposits of estimated CVDs, in the amounts shown above for each of the respective companies shown above, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

Administrative Protective Order

This notice also serves as a reminder to parties subject to an administrative protective order (APO) of their responsibility concerning the disposition of proprietary information disclosed under APO in accordance with 19 CFR 351.305(a)(3), which continues to govern business proprietary information in this segment of proceeding. Timely written notification of the return/destruction of APO materials or conversion to judicial protective order is hereby requested. Failure to comply with the regulations and the terms of an APO is a sanctionable violation which is subject to sanction.

These final results are issued and published in accordance with sections 751(a)(1) and 777(i)(1) of the Act.

Dated: October 5, 2015.
Paul Piquado,
Assistant Secretary for Enforcement and Compliance.

Appendix

I. Summary

II. Rescission of the 2013 Administrative Review, in Part

III. Subsidies Valuation Information

A. Allocation Period

B. Attribution of Subsidies

C. Benchmark Interest Rates

IV. Analysis of Programs

A. Programs Determined To Be Countervailable

1. Deduction from Taxable Income for Export Revenue

2. Short-Term Pre-Shipment Rediscount Program

3. Investment Encouragement Program (IEP): Customs Duty Exemptions

4. Provision of HRS for Less Than Adequate Remuneration (LTAR)

B. Programs Determined Not To Confer Countervailable Benefits

1. Inward Processing Certificate Exemption

C. Programs Determined Not to Be Used

V. Non-Selected Rate

VI. Analysis of Comments

Comment 1: Whether the Department Erred by Finding That Prices of HRS in Turkey Are Significantly Distorted

Comment 2: Calculating the Share of HRS Accounted for by Erdemir and Isdemir

Comment 3: Data Sources Used in the Calculation of the Tier-Two Benchmark Price

Comment 4: Calculating the Tier-Two Benchmark Price Concerning Import Duties and VAT

Comment 5: Calculating the Tier-Two Benchmark Price Concerning Freight

Comment 6: Whether the Method the Department Used To Weight Average the Tier-Two Benchmark Is Flawed

Comment 7: Whether Erdemir and Isdemir Are Public Bodies

Comment 8: The Department's Specificity Determination

Comment 9: Whether the Department Erred in Not Selecting the Toscelik Companies as a Mandatory Respondent

VII. Recommendation

[FR Doc. 2015-25989 Filed 10-9-15; 8:45 am]

BILLING CODE 3510-DS-P